ENVIRONMENTAL PROTECTION AGENCY

40 CFR Part 60

[EPA-HQ-OAR-2022-0730; FRL-9327.1-01-OAR]

RIN 2060-AW29

New Source Performance Standards for the Synthetic Organic Chemical Manufacturing Industry and National Emission Standards for Hazardous Air Pollutants for the Synthetic Organic Chemical Manufacturing Industry and Group I & II Polymers and Resins Industry; Correction

AGENCY: Environmental Protection Agency (EPA).

ACTION: Correcting amendments.

SUMMARY: The Environmental Protection Agency (EPA) is making two corrections to the final action that appeared in the Federal Register on May 16, 2024. The first correction allows the Office of Federal Register editors to codify and add paragraphs inadvertently removed from that final action in a recent correction published in the Federal Register on July 5, 2024. This correction does not alter or change the content or text of any regulatory provision in that final action. The second correction moves the placement of 3 explanatory notes in the regulatory text; this correction does not change the content of the explanatory notes.

DATES: Effective September 12, 2024.

FOR FURTHER INFORMATION CONTACT: Mr. Andrew Bouchard, Sector Policies and Programs Division, Mail Drop: E143-01, Environmental Protection Agency, 109 T.W. Alexander Drive, P.O. Box 12055, RTP, North Carolina 27711; telephone number: (919) 541-4036; and email address: bouchard.andrew@epa.gov.

SUPPLEMENTARY INFORMATION: This is the second set of corrections made to the published final action 89 FR 42932 (May 16, 2024) (“Final Action”). The first set of corrections was published in the Federal Register 89 FR 55522 (July 5, 2024). The EPA is making 2 corrections in this action. First, the EPA is correcting 40 CFR 60.482-1a, which was inadvertently changed in the July 5, 2024, notice. In that first correction notice, the EPA revised instruction 12 to facilitate publication of 40 CFR 60.482-1a, as amended in the May 16, 2024, Final Action, in the Code of Federal Regulation. However, by stating that it was “revising paragraph (e)” instead of “revising paragraph (e) introductory text,” the revised instruction 12 erroneously removed paragraphs (e)(1) through (3) of 40 CFR 60.482-1a. We are correcting this error and reinstating 40 CFR 60.482-1a(e)(1) through (3). Second, the EPA is making a correction to the Final Action by moving the placement of the “Note” within 40 CFR 60.610, 60.660, and 60.700 to the end of each regulatory section in order to clarify that the Note applies to the entire section. These regulatory notes, which were previously promulgated, appeared at the end of the regulatory sections and thereby applied to the entire regulatory sections. However, in adding a new paragraph (e) in each of these 3 sections, the 2024 Final Action inadvertently placed the new paragraph (e) after the explanatory note in each of these sections. We are correcting this error by moving the explanatory note back to the end of each of these 3 sections, as they appeared prior to the 2024 Final Action. This correction does not change the content or text of the of the explanatory notes.

List of Subjects in 40 CFR Part 60

Environmental protection, Administrative practice and procedure, Air pollution control, Incorporation by reference, Intergovernmental relations, Reporting and recordkeeping requirements.

Joseph Goffman,
Assistant Administrator.

For the reasons stated in the preamble, the EPA amends title 40, chapter I, part 60 of the Code of Federal Regulations by making the following correcting amendments:

PART 60—STANDARDS OF PERFORMANCE FOR NEW STATIONARY SOURCES

1. The authority citation for part 60 continues to read as follows:

Authority: 42 U.S.C. 7401 et. seq.

2. Amend § 60.482-1a by adding paragraphs (e)(1) through (3) to read as follows:

§ 60.482-1a Standards: General

* * * * *

(e) * * *

(1) The equipment is in VOC service only during startup and shutdown, excluding startup and shutdown between batches of the same campaign for a batch process.

(2) The equipment is in VOC service only during process malfunctions or other emergencies.

(3) The equipment is backup equipment that is in VOC service only when the primary equipment is out of service.

* * * * *

§ 60.610 [Amended]

3. Amend § 60.610 by redesignating the note following paragraph (d)(4) as “Note 1 to § 60.610” and moving it to the end of the section.

§ 60.660 [Amended]

4. Amend § 60.660 by redesignating the note following paragraph (d)(4) as “Note 1 to § 60.660” and moving it to the end of the section.

§ 60.700 [Amended]

5. Amend § 60.700 by redesignating the note following paragraph (d)(4) as “Note 1 to § 60.700” and moving it to the end of the section.

[FR Doc. 2024-20646 Filed 9-11-24; 8:45 am]

BILLING CODE 6560-50-P